SMALL BUSINESS ADMINISTRATION

[Declaration of Disaster #3282]

State of Washington

Okanogan County and the contiguous counties of Chelan, Douglas, Ferry, Grant, Lincoln, Skagit, and Whatcom in the State of Washington constitute a disaster area as a result of wildfires that occurred between July 22 and July 26, 2000. Applications for loans for physical damage as a result of this disaster may be filed until the close of business on October 23, 2000 and for economic injury until the close of business on May 23, 2001 at the address listed below or other locally announced locations: U.S. Small Business Administration, Disaster Area 4 Office, P. O. Box 13795, Sacramento, CA 95853-4795.

The interest rates are:

| Percent
For Physical Damage:
Homeowners with credit available elsewhere | 7.375
Homeowners without credit available elsewhere | 3.687
Businesses with credit available elsewhere | 8.000
Businesses and non-profit organizations without credit available elsewhere | 4.000
Others (including non-profit organizations) with credit available elsewhere | 6.750
For Economic Injury:
Businesses and small agricultural cooperatives without credit available elsewhere | 4.000

The numbers assigned to this disaster are 328205 for physical damage and 9I4000 for economic injury.

(Catalog of Federal Domestic Assistance Program Nos. 59002 and 59008.)
Dated: August 23, 2000.
Fred P. Hochberg,
Acting Administrator.

[FR Doc. 00-22233 Filed 8-30-00; 8:45 am]

BILLING CODE 8025-01-P